DEPARTMENT OF DEFENSE

Department of the Army, Corps of Engineers

Reissuance of Nationwide Permits; Notice

AGENCY: Army Corps of Engineers, DoD.

ACTION: Correction.

SUMMARY: This document contains corrections to the final notice of issuance of Nationwide Permits (NWPs) which was published in the Federal Register on Monday, March 12, 2007 (72 FR 11092—11198).

ADDRESSES: U.S. Army Corps of Engineers, Attn: CECW-CO, 441 G Street NW., Washington, DC 20314-1000.

FOR FURTHER INFORMATION CONTACT: Mr. David Olson at 202-761-4922 or by e-mail at david.b.olson@usace.army.mil or access the U.S. Army Corps of Engineers Regulatory Home Page at http://www.usace.army.mil/inet/functions/cw/cecwo/reg/.

On page 11172, third column, in the first sentence of the fourth full paragraph (the preamble discussion of the definition of “discharge”), delete the text following the word “clarify” and replace it with the following: “That this term is used in the NWPs to refer to a discharge of dredged or fill material.” Delete the second sentence of this paragraph.

On page 11185, first column, in Note 2 of NWP 24, replace the reference to 33 CFR 322.3(a)(2) with 33 CFR 322.4(b).

On page 11194, third column, in the last sentence of paragraph (a) of general condition 27 insert the phrase “until either” between the word “activity” and the colon. In the first sentence of subparagraph (a)(1) of general condition 27, replace the word “Until” with the phrase “He or she is”. In the first sentence of subparagraph (a)(2) of general condition 27, delete the word “If” and replace the number 45 with the words “Forty-five”.

On page 11196, second column, in the definition of “discharge”, insert a period after the word “material” and delete the rest of the sentence.

Dated: May 3, 2007.
Mark F. Sudol,
Acting Chief, Operations, Directorate of Civil Works.

[FR Doc. E7-8782 Filed 5-7-07; 8:45 am]

BILLING CODE 3710-92-P